DEPARTMENT OF TRANSPORTATION

Federal Aviation Administration

Notice of Intent To Rule on Application 03-06-C-00-TPA To Impose and Use the Revenue From a Passenger Facility Charge (PFC) at Tampa International Airport, Tampa, Florida

AGENCY: Federal Aviation Administration (FAA), DOT.

ACTION: Notice of intent to rule on application.

SUMMARY: The FAA proposes to rule and invites public comment on the application to impose and use the revenue from the PFC at Tampa International Airport under the provisions of the 49 U.S.C. 40117 and part 158 of the Federal Aviation Regulations (14 CFR Part 158).

DATES: Comments must be received on or before March 10, 2003.

ADDRESSES: Comments on this application may be mailed or delivered in triplicate to the FAA at the following address: Orlando Airports District Office, 5950 Hazeltine National Drive, Suite 400, Orlando, Florida 32822.

In addition, one copy of any comments submitted to the FAA must be mailed or delivered to Mr. Louis E. Miller of the Hillsborough County Aviation Authority at the following address: Hillsborough County Aviation Authority, PO Box 22287, Tampa, Florida 33622-2287.

Air carriers and foreign air carriers may submit copies of written comments previously provided to the Hillsborough County Aviation Authority under § 158.23 of part 158.

FOR FURTHER INFORMATION CONTACT: Mr. Vernon P. Rupinta, Program Manager, 5950 Hazeltine National Drive, Suite 400, Orlando, Florida 32822, (407) 812-6331, Extension 24. The application may be reviewed in person at this same location.

SUPPLEMENTARY INFORMATION: The FAA proposes to rule and invites public comment on the application to impose and use the revenue from a PFC at Tampa International Airport under the provisions of the 49 U.S.C. 40117 and part 158 of the Federal Aviation Regulations (14 CFR part 158).

On January 30, 2003, in FAA determined that the application to impose and use the revenue from a PFC submitted by Hillsborough County Aviation Authority was substantially complete within the requirements of § 158.25 of part 158. The FAA will approve or disapprove the application, in whole or in part, no later than May 16, 2003.

The following is a brief overview of the application.

Proposed charge effective date: August 1, 2006.

Proposed charge expiration date: September 1, 2003.

Level of the proposed PFC: $4.50.

Total estimated PFC revenue: $298,115,400.

Brief description of proposed project(s): Airside “C” Redevelopment Program; Airside “B” Demolition/Apron Reconstruction; Engine Run-up, Taxiway and Ramp; Outbound Baggage System & Security Enhancements.

Level of the proposed PFC: $4.50.

Total estimated PFC revenue: $298,115,400.

Class or classes or air carriers which the public agency has requested not be required to collect PFCs: On-Demand Air Taxi\Commercial Operators (ATCO).

Any person may inspect the application in person at the FAA office listed above under FOR FURTHER INFORMATION CONTACT and at the FAA regional Airports office located at: Southern Region Headquarters, 1701 Columbia Avenue, College Park, Georgia 30337.

In addition, any person may, upon request, inspect the application, notice and other documents germane to the application in person at the Hillsborough County Aviation Authority.

Issued in Orlando, Florida on January 30, 2003.
Miguel A. Martinez,
Acting DOD Manager, Southern Region.

[FR Doc. 03-2929 Filed 2-5-03; 8:45 am]

BILLING CODE 4910-13-M